DEPARTMENT OF ENERGY

Federal Energy Regulatory Commission

Combined Notice of Filings

Take notice that the Commission has received the following Natural Gas Pipeline Rate and Refund Report filings:

Filings Instituting Proceedings

Docket Number: PR21-53-001.

Applicants: Moss Bluff Hub, LLC.

Description: Tariff filing per 284.123(b),(e)/: Amendment to PR21-53-000—FERC Housekeeping Items to be effective N/A.

Filed Date: 9/13/2021.

Accession Number: 20210913¬5177.

Comments/Protests Due: 5 p.m. ET 9/27/21.

Docket Numbers: PR21-65-000.

Applicants: Kinder Morgan Texas Pipeline LLC.

Description: Tariff filing per 284.123(b),(e)/: Informational Filing Concerning Market-Based Rate Authority under PR08-25 to be effective N/A.

Filed Date: 9/3/2021.

Accession Number: 20210903¬5177.

Comments/Protests Due: 5 p.m. ET 9/24/21.

Docket Numbers: RP21-1109-000.

Applicants: Iroquois Gas Transmission System, L.P.

Description: § 4(d) Rate Filing: 9.14.21 Negotiated Rates—Emera Energy Services, Inc. R-2715-45 to be effective 11/1/2021.

Filed Date: 9/14/21.

Accession Number: 20210914-5081.

Comment Date: 5 p.m. ET 9/27/21.

Docket Numbers: RP21-1110-000.

Applicants: Iroquois Gas Transmission System, L.P.

Description: § 4(d) Rate Filing: 9.14.21 Negotiated Rates—Emera Energy Services, Inc. R-2715-46 to be effective 11/1/2021.

Filed Date: 9/14/21.

Accession Number: 20210914-5084.

Comment Date: 5 p.m. ET 9/27/21.

Docket Numbers: RP21-1111-000.

Applicants: Iroquois Gas Transmission System, L.P.

Description: § 4(d) Rate Filing: 9.14.21 Negotiated Rates—Mercuria Energy America, LLC R-7540-02 to be effective 11/1/2021.

Filed Date: 9/14/21.

Accession Number: 20210914-5087.

Comment Date: 5 p.m. ET 9/27/21.

Docket Numbers: RP21-1112-000.

Applicants: Iroquois Gas Transmission System, L.P.

Description: § 4(d) Rate Filing: 9.14.21 Negotiated Rates—Vitol Inc. R-7495-11 to be effective 11/1/2021.

Filed Date: 9/14/21.

Accession Number: 20210914-5090.

Comment Date: 5 p.m. ET 9/27/21.

Docket Numbers: RP21-1113-000.

Applicants: Great Basin Gas Transmission Company.

Description: § 4(d) Rate Filing: New Baseline Tariff—Original Version No. 1 to be effective 10/1/2021.

Filed Date: 9/14/21.

Accession Number: 20210914-5126.

Comment Date: 5 p.m. ET 9/27/21.

Docket Numbers: RP20-908-004.

Applicants: Alliance Pipeline L.P.

Description: Compliance filing: Alliance RP20-908 Compliance Filing to be effective 12/1/2020.

Filed Date: 9/14/21.

Accession Number: 20210914-5119.

Comment Date: 5 p.m. ET 9/27/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2021.
Debbie-Anne A. Reese,
Deputy Secretary.

[FR Doc. 2021-20385 Filed 9-20-21; 8:45 am]

BILLING CODE 6717-01-P